FEDERAL TRADE COMMISSION

Granting of Request for Early Termination of the Waiting Period Under the Premerger Notification Rules

Section 7A of the Clayton Act, 15 U.S.C. § 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction No. | Acquiring | Acquired | Entities
Transactions Granted Early Termination—08/07/2000
20004239 | Advanced Energy Industries, Inc | Dr. Ray R. Dils | Sekidenko, Inc.
20004266 | HealthCentral.com | Drug Emporium, Inc. | Drug Emporium, Inc.
20004267 | Andersen Consulting LLP | Henry E. Asher | eData.com, Inc.
20004283 | Wilbur-Ellis Company | Don & Irene Gragnani | Helm Fertilizers, Inc.
20004284 | Caxton Global Investments Limited | Buffets, Inc. | Buffets, Inc.
20004285 | American United Insurance Company | CNL Financial Corporation | CNL Financial Corporation
20004290 | CyberSource Corporation | PaylinX Corporation | PaylinX Corporation
20004291 | Cypress Semiconductor Corporation | Silicon Light Machines | Silicon Light Machines
20004292 | Halpern Denny Fund II, L.P | F. Andrew Welcher | Jackson Oil Products Company, Inc. Resources Recovery, Inc.
20004296 | UnitedHealth Group Incorporated | Familymeds Group, Inc. | Familymeds Group, Inc.
20004301 | Quanta Services, Inc | James & Laura Woods | Woods Electrical Co., Inc. Woods Network Services, Inc.
20004302 | Key Components, LLC | Acme Electric Corporation | Acme Electric Corporation
20004303 | Commerce One, Inc. | AppNet, Inc. | AppNet, Inc.
20004304 | Kenneth R. Thomson | Physicians World Communications Group | Physicians World Communications Group
20004305 | Warburg, Pincus, Equity Partners, L.P | The Cobalt Group | The Cobalt Group
20004310 | Sidney B. DeBoer | Terry L. Schulte | Terry Schulte Automotive, Inc.
20004312 | American Home Products Corporation | Aventis | Aventis Pharamaceuticals Products, Inc. Rhone-Poulenc Rorer Inc.
20004315 | United Auto Group, Inc | Kevin Rinke | Rinke Cadillac Co. The Rinke Pontiac-GMC Company
20004319 | Elisabeth Badinter | Saatchi & Saatchi plc | Saatchi & Saatchi plc
20004320 | Cordiant Communications Group plc | Lighthouse Global Network, Inc. | Lighthouse Global Network, Inc.
20004324 | Jon M. Huntsman | Rohm and Haas Company | Rohm and Haas Company
20004325 | GTCR Fund VII, L.P | Schubert Family Trust | National Alarm Computer Center, Inc.
Transactions Granted Early Termination—08/08/2000
20004222 | Deutsche Bank | AlphaBlox Corporation | AlphaBlox Corporation
20004205 | Metris Companies Inc | Popular, Inc | Banco Popular North America
Transactions Granted Early Termination—08/09/2000
20004118 | Land O' Lakes, Inc | ConAgra, Inc | Beatrice Group, Inc.
20004120 | Kyle W. Mussman | Marie Balitsos | BCK/Rivgam, L.L.C.
20004145 | Rogers Group, Inc | Hanson PLC | Hanson Aggregates East, Inc.
20004146 | Hanson PLC | Rogers Group, Inc | Rogers Group, Inc.
20004168 | First Union Corporation | Gabriel Communications, Inc | Gabriel Communications, Inc.
20004201 | Invensys plc | John E. Conley | Cactus Integration Group, LLC
20004204 | Summer M. Redstone | Raycom Media, Inc | Raycom America, Inc.
20004223 | Provident Financial Group, Inc | Bank One Corporation | Banc One Capital Holdings Corp., Banc One Capital Funding Banc One Neighborhood, Banc One Captial Markets
20004225 | America Online | TiVo Inc | TiVo Inc.
20004311 | General Motors Corporation | FINOVA Capital Corporation | FINOVA Capital Corporation
20004363 | Jerome H. Kern | AT&T Corporation | On Command Corporation
Transactions Granted Early Termination—08/10/2000
20004260 | Gramercy Communications Partners (Cayman), L.P | Z-Tel Technologies, Inc | Z-Tel Technologies, Inc.
20004313 | UBS AG | Paine Webber Group, Inc | Paine Webber Group, Inc.
Transactions Granted Early Termination—08/11/2000
20004227 | Gramercy Communications Partners, L.P | Charles M. Piluso | North American Telecommunications Corporation.
20004234 | Team Health Holdings, LLC | Laidlaw Inc | EmCare Holdings, Inc.
20004331 | VS&A Communications Partners III, L.P | Gilbert Global Equity partners, L.P | Ionex Telecommunications, Inc.
20004341 | Ron W. Arder, Jr | Flextronics International Ltd | Flextronics International Ltd.
20004342 | Flextronics International Ltd | Ron W. Arder, Jr | Lightning Manufacturing Solutions Texas, L.L.C.
20004343 | Frank J. Dotzler | Flextronics International Ltd | Flextronics International Ltd.
20004344 | Flextronics International Ltd | Frank J. Dotzler | Lightning Manufacturing Solutions Texas, L.L.C.
20004351 | Flextronics International Ltd | Lightning Metal Specialties, Inc | Lightning Metal Specialties, Inc.
20004358 | Teradyne, Inc. a Massachusetts Corporation | Robert S. Herring, Sr | Herco Technology Incorporated. Perception Laminates, Inc.
20004499 | Hilite Holdings L.L.C | Northern Stamping, Inc | Northern Stamping, Inc.
20004308 | Lloyd J. Baretz | National Data Corporation | C-Care, Inc. d/b/a The MARS Group EE&C Financial Services, Inc. H.O.P.E. Enterprises Group, Inc. National Data Corporation PhyServ Solutions, Inc. Professional Medical Recovery Services, Inc.
20004354 | TNT Post Group N.V. | G3 World Mail B.V.i.o | G3 World Mail B.V.i.o.
Transactions Granted Early Termination—08/15/2000
20003988 | Stephen J. Luczo | VERITAS Software Corporation | VERITAS Software Corporation
20004132 | Premdor Inc | General Electric Company | Wing Industries, Inc.
20004164 | H Group Holding, Inc | Novartis AG | Novartis AG
20004176 | Asworth Corporation | Novartis AG | Novartis AG
20004206 | Carl C. Icahn | VISX, Inc | VISX, Inc.
20004213 | Wells Fargo & Company | Life Time Fitness, Inc. | Life Time Fitness, Inc.
20004228 | Clear Channel Broadcasting, Inc | Sunburst Media, L.P. | Sunburst Media, L.P.
20004253 | Lehman Brothers Blount Investment SPV LLC | Robin A. Peterson | Fabtek, Inc.
20004255 | Hitachi, Ltd | Elpida Memory (USA) Inc. | Elipda Memory (USA) Inc.
20004256 | NEC Corporation | Elpida Memory (USA) Inc. | Elpida Memory (USA) Inc.
20004257 | J.H. Whitney IV, L.P | MetroPCS, Inc. | MetroPCS, Inc.
20004258 | The Chase Manhattan Corporation | MetroPCS, Inc. | MetroPCS, Inc.
20004269 | Dassault Systems, S.A | Spatial Technology Inc. | Spatial Components, LLC.
20004271 | Ford Motor Company | Vastera, Inc | Vastera, Inc.
20004288 | Mediacom Communications Corporation | Illinet Communications, L.L.C. | Illini Cable Holding, Inc. Illini Cablevision of Illinois, Inc. Illini Communications of Central Illinois, LLC.
20004289 | BP Amoco p.I.c | Century Partners-Idaho Limited Partnership | IGI Resources, Inc.
20004299 | Alltel Corporation | Alltel Corporation | Florida RSA #1B (Naples) Limited Partnership.
20004306 | John R. Eckel, Jr | N.V. Koninklijke Nederlandsche Petroleum Maatschappij | N.V. Koninklijke Nederlandsche Petroleum Maatschappij
20004314 | PowerGen plc | Ameren Corp. | Electric Energy, Inc.
20004317 | DLJ Merchant Banking Partners II, L.P | Insilco Holding Co | Great Lake, Inc., Steel Parts Corporation. Insilco Corporation. Thermal Components, Inc., Thermal Transfer Products, Ltd.
20004318 | Paul M. Montrone | Bayberry Trust | Northern Lights Cable, Inc. Prestolite Wire Corporation. Prestolite Wire Pacific Rim, PTE, Ltd.
20004337 | Flextronics International Ltd | Chatham Technologies, Inc | Chatham Technologies, Inc.
20004425 | Rhodia | ChiRex Inc | ChiRex Inc.
20004445 | General Electric Company | Dominion Resources, Inc | First Source Financial LLP.
Transactions Granted Early Termination—08/16/2000
20004190 | J.P. Morgan & Co. Incorporated | RiskMetrics Group, Inc. (The) | RiskMetrics Group, Inc. (The).
20004240 | Tosco Corporation | BP Amoco p.l.c | BP Exploration & Oil Inc. BP Oil Pipeline Company
20004328 | Carso Global Telecom, S.A. de C.V | Home Wireless Networks, Inc. | Home Wireless Networks, Inc.
20004335 | Eastman Kodak Company | David M. Stern | Research Systems, Inc.
20004336 | CheckFree Holdings Corporation | Bank of America Corporation | Bank of America Corporation
20004339 | Sonera Corporation | James O. Hayles, Jr. and Myna C. Hayles, (husband & wife) | Eliska Wireless Ventures I, Inc.
20004345 | University Community Hospital, Inc | Tarpon Springs Hospital Foundation, Inc | Tarpon Springs Hospital Foundation, Inc.
20004349 | TH Lee.Putnam Internet Partners, LP | United Shipping & Technology, Inc | United Shipping & Technology, Inc.
20004350 | TH Lee.Putnam Internet Parallel Partners, L.P | United Shipping & Technology, Inc | United Shipping & Technology, Inc.
20004357 | Powertel, Inc. | James O. Hayles, Jr. and Myna C. Hayles (husband and wife) | Eliska Wireless Ventures I, Inc.
20004359 | Sonera Corporation | Powertel, Inc | Powertel, Inc.
20004364 | Stork N.V. | H&E Machinery, Inc | H&E Machinery, Inc. H&E Turbo Components, Inc. M&E Turbo Machinery, Inc.
20004365 | Marubeni Corporation | PLM International Inc | PLM International, Inc.
20004366 | Intel Corporation | Trillium Digital Systems, Inc | Trillium Digital Systems, Inc.
20004369 | Andrea L. Cunningham | Incepta Group Plc | Incepta Group Plc.
20004370 | Incepta Group Plc | Andrea L. Cunningham | Cunningham Communications, Inc.
20004371 | Insilco Holding Co | Dale Fleming | Precision Cable Manufacturing Corporation.
20004372 | American Reprographics Holdings, L.L.C | The Sandpoint Charitable Trust | Wilco Reprographics, Inc.
20004378 | James L. Barksdale | Webvan Group, Inc | Webvan Group, Inc.
20004380 | Kan S. Bajaj | Commerce One, Inc | Commerce One, Inc.
20004382 | Sapa AB | Anodizing, Inc | Anodizing, Inc.
20004421 | Reuters Group PLC | The RiskMetrics Group, Inc | The RiskMetrics Group, Inc.
Transactions Granted Early Termination—08/17/2000
20002951 | Healtheon/WebMD Corporation | Medical Manager Corporation | Medical Manager Corporation
20004169 | Hanover Compressor Company | Ingersoll-Rand Company | Dresser-Rand Company
20004279 | Warburg, Pincus Ventures, L.P | Scientific Learning Corporation | Scientific Learning Corporation
20004390 | Merrill Lynch & Co., Inc | Level 8 Systems, Inc | Level 8 Systems, Inc.
20004397 | Pearson plc | National Computer Systems, Inc | National Computer Systems, Inc.
20004423 | Marubeni Corporation | David W. Spiegel | Gallery Automotive Group, Inc.
20004427 | Internet Capital Group, Inc | BuyMedia, Inc | BuyMedia, Inc.

FOR FURTHER INFORMATION CONTACT: Sandra M. Peay or Parcellena P. Fielding, Contract Representatives, Federal Trade Commission, Premerger Notification Office, Bureau of Competition, Room 303, Washington, DC 20580, (202) 326-3100.

By Direction of the Commission.
Donald S. Clark,
Secretary.

[FR Doc. 00-26341 Filed 10-12-00; 8:45 am]

BILLING CODE 6750-01-M